DEPARTMENT OF ENERGY

Federal Energy Regulatory Commission

Notice of Availability of Executive Summary and Index Templates

February 13, 2003.

San Diego Gas & Electric Company, Complainant, v. Sellers of Energy and Ancillary Services Into Markets Operated by the California Independent System Operator Corporation and the California Power Exchange, Respondent

[Docket No. EL00-95-075]

Investigation of Practices of the California Independent System Operator and the California Power Exchange and Puget Sound Energy, Inc., et al. Complainant, v. All Jurisdictional Sellers of Energy and/or Capacity at Wholesale into Electric Energy and/or Capacity Markets in the Pacific Northwest, Including Parties to the Western Systems Power Pool Agreement Respondent

[Docket Nos. EL00-98-063, Docket No. EL01-10-007]

Pursuant to the orders issued on February 10, 2003., in the above captioned dockets,¹ the Commission has posted on its Web site (http://www.ferc.gov) the guidelines and templates for parties that will be making additional submissions. This information can be found in the “What's New at FERC” window.

¹ San Diego Gas & Elec. Co. v. Sellers of Energy and Ancillary Serv., et al., 102 FERC ¶ 61,164 (2003), and Puget Sound Energy, Inc., et al., 102 FERC ¶ 61,163 (2003).

All parties making these submissions must follow the posted instructions and use the provided templates for filing their executive summary and their indices of additional information.

Magalie R. Salas,
Secretary.

[FR Doc. 03-4113 Filed 2-19-03; 8:45 am]

BILLING CODE 6717-01-P